DEPARTMENT OF ENERGY

Federal Energy Regulatory Commission

[Project No. 2413-108]

Georgia Power Company; Notice of Application for Amendment of License Soliciting Comments, Motions To Intervene, and Protests

September 24, 2008.

Take notice that the following hydroelectric application has been filed with the Commission and is available for public inspection:

a. Application Type: Non-Project Use of Project Lands and Waters.

b. Project No: 2413-108.

c. Date Filed: August 14, 2008.

d. Applicant: Georgia Power Company.

e. Name of Project: Wallace Dam Project.

f. Location: The proposal would be located in the Reynolds Plantation development, 5 miles south of the Georgia Highway 44 bridge as it crosses Richland Creek, on the Richland Creek section of Lake Oconee, in Greene County, Georgia.

g. Filed Pursuant to: Federal Power Act, 16 U.S.C. 791a-825r.

h. Applicant Contact: Mr. Lee Glenn, Lake Resources Manager, 125 Wallace Dam Road NE, Eatonton, GA 31024, (706) 485-8704.

i. FERC Contact: Jade N. Alvey, Telephone (202) 502-6864, and e-mail: Jade.Alvey@ferc.gov.

j. Deadline for filing comments, motions to intervene, and protests: October 24, 2008.

All documents (original and eight copies) should be filed with: Secretary, Federal Energy Regulatory Commission, 888 First Street, NE., Washington, DC 20426.

The Commission's Rules of Practice require all interveners filing documents with the Commission to serve a copy of that document on each person on the official service list for the project. Further, if an intervener files comments or documents with the Commission relating to the merits of an issue that may affect the responsibilities of a particular resource agency, they must also serve a copy of the document on that resource agency. A copy of any motion to intervene must also be served upon each representative of the Applicant specified in the particular application.

k. Description of Request: Georgia Power Company filed an application seeking Commission approval to permit Linger Longer Development Company, in conjunction with its Lake Club facility, to expand an existing group dock from 8 slips to 10 slips, as well as construct an additional 10-slip group dock on Lake Oconee. The docks are to be used by residents and guests of the Reynolds Plantation community and members of Lake Club. The expansion of current dock facilities would include: (1) The construction of a total of 12 new slips; (2) 1,450 square feet of decking, including 35.15 square feet of boardwalk; (3) a 151-square-foot impervious walkway, including 117 square feet located within the 25-foot state stream buffer; and, (4) additional riprap if deemed necessary. All activity would be conducted in a manner to minimize adverse impacts on sedimentation and erosion, including the preservation of existing vegetation in the activity area, and re-vegetation as necessary. All required authorizations would be acquired from Greene County and the state of Georgia before implementation of the proposal.

l. Locations of the Application: A copy of the application is available for inspection and reproduction at the Commission's Public Reference Room, located at 888 First Street, NE, Room 2A, Washington, DC 20426, or by calling (202) 502-8371. This filing may also be viewed on the Commission's Web site at http://www.ferc.gov using the “eLibrary” link. Enter the docket number excluding the last three digits in the docket number field to access the document. You may also register online at http://www.ferc.gov/docs-filing/esubscription.asp to be notified via e-mail of new filings and issuances related to this or other pending projects. For assistance, call 1-866-208-3372 or e-mail FERCOnlineSupport@ferc.gov, for TTY, call (202) 502-8659. A copy is also available for inspection and reproduction at the address in item (h) above.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Any filings must bear in all capital letters the title “COMMENTS”, “PROTEST”, or “MOTION TO INTERVENE”, as applicable, and the Project Number of the particular application to which the filing refers.

p. Agency Comments: Federal, State, and local agencies are invited to file comments on the described application. A copy of the application may be obtained by agencies directly from the Applicant. If an agency does not file comments within the time specified for filing comments, it will be presumed to have no comments. One copy of an agency's comments must also be sent to the Applicant's representatives.

q. Comments, protests and interventions may be filed electronically via the Internet in lieu of paper. See, 18 CFR 385.2001(a)(1)(iii) and the instructions on the Commission's Web site at http://www.ferc.gov under the “e-Filing” link.

Nathaniel J. Davis, Sr.,
Deputy Secretary.

[FR Doc. E8-23062 Filed 9-30-08; 8:45 am]

BILLING CODE 6717-01-P